DEPARTMENT OF HEALTH AND HUMAN SERVICES

Substance Abuse and Mental Health Services Administration

Proposed Changes in Announcement of SAMHSA Discretionary Grant Funding Opportunities

AGENCY: Substance Abuse and Mental Health Services Administration, HHS.

ACTION: Notice of Sample Notice of Funding Availability (NOFA) for a SAMHSA Services Grant Funding Opportunity.

SUMMARY: Beginning in Fiscal Year (FY) 2004, the Substance Abuse and Mental Health Services Administration (SAMHSA) plans to change its approach to announcing and soliciting applications for its discretionary grant programs. The following is a sample Notice of Funding Availability (NOFA) that would be used in conjunction with SAMHSA's standard Services Grant announcement. Although based on an actual SAMHSA grant program, this is a hypothetical NOFA. It is not an actual grant solicitation.

Authority: Sections 509, 516, and 520A of the Public Health Service Act.

When published in final, NOFAs similar to the following NOFA will be used by applicants in conjunction with the standard SAMHSA Services Grant announcement to prepare applications for certain SAMHSA grants. SAMHSA is providing this sample NOFA for public review and comment in order to ensure that the field is aware of the planned change and has an opportunity to identify areas where the standard announcements and NOFA are unclear and need improvement.

DATES: Submit written comments on this proposal by October 20, 2003.

ADDRESSES: Interested persons are invited to submit comments regarding SAMHSA's sample NOFA to: Office of Policy, Planning and Budget, SAMHSA, Attn: Jennifer Fiedelholtz, by fax (301-594-6159) or e-mail (samha_standard_grants@samhsa.gov). Please include a phone number in your e-mail, so that SAMHSA staff may contact you if there are questions about your comments.

FOR FURTHER INFORMATION CONTACT: Jennifer Fiedelholtz of the Office of Policy, Planning and Budget, SAMHSA, by fax (301-594-6159) or e-mail (samhsa_standard_grants@samhsa.gov). If you would like a SAMHSA staff person to call you about your questions, please state this is an e-mail or fax request and provide a telephone number where you can be reached between 8:30 a.m. and 5 p.m. Eastern Standard Time.

SUPPLEMENTARY INFORMATION: Starting in FY 2004, SAMHSA plans to change its approach to announcing and soliciting applications for its discretionary grants. SAMHSA plans to issue NOFAs similar to the following sample NOFA to announce specific funding opportunities within four standard grant programs (Services Grants, Infrastructure Grants, Best Practices Planning and Implementation Grants, and Service-to-Science Grants). The standard grant announcements will describe the general program design and provide application instructions for each type of grant. The NOFA's will:

• Identify any specific target population or issue for the specific grant funding opportunity,

• Identify which of the four standard announcements applicants must use to prepare their applications,

• Specify total funding available for the first year of the grants and the expected size and number of awards,

• Specify the application deadline,

• Note any specific program requirements for each funding opportunity, and

• Include any limitations or exceptions to the general provisions in the standard announcement.

A complete description of the proposed process and the four proposed standard announcements are contained in separate notices in this issue of the Federal Register.

SAMHSA welcomes public comment on all aspects of the sample NOFA. In particular, SAMHSA welcomes comment on the following issues:

1. Is the difference between the standard announcement and a NOFA clear?

2. Are the special programmatic requirements for the hypothetical funding opportunity clear?

3. If you are a potential applicant for a SAMHSA grant, do you believe you will be able to use the standard grant announcements with the NOFAs to prepare your application? Will the ability to anticipate programmatic requirements improve your ability to prepare a solid application? Is the additional benefit “worth” the “cost” of having to use two different documents to prepare your application?

Sample NOFA Text [Note: The following is not an actual funding opportunity. Certain information, such as size and number of awards, has been deliberately left out. This NOFA is provided as an opportunity for public comment on SAMHSA's proposed approach to announcing and soliciting applications for discretionary grant funding opportunities in FY 2004.]: The Substance Abuse and Mental Health Services Administration (SAMHSA), Center for Substance Abuse Treatment (CSAT), announces the availability of FY [XXXX] funds for the grant program described below. A synopsis of this funding opportunity, as well as many other Federal Government funding opportunities, is also available at the Internet site: http://www.fedgrants.gov.

This notice is not a complete description of the program. Potential applicants must obtain a copy of SAMHSA's standard Services Grants Program Announcement (SVC-04 PA), and the PHS 5161-1 (Rev. 7/00) application form before preparing and submitting an application. The SVC-04 PA describes the general program design and provides instructions for applying for most SAMHSA Services Grants. Additional instructions and specific requirements for this funding opportunity are described below.

Funding Opportunity Title: Development of Comprehensive Drug/Alcohol and Mental Health Treatment Systems for Persons Who Are Homeless—Short Title: Treatment for Homeless.

Announcement Type: Initial.

Funding Opportunity Number: TI 04-XX.

Catalog of Federal Domestic Assistance (CFDA) Number: 93.243.

Due Date for Applications: TBA.

Funding Instrument: Grant.

Funding Opportunity Description: SAMHSA's Services Grants provide funds to expand and strengthen effective, culturally appropriate substance abuse and mental health services at the State and local levels. Services grants must be used primarily to support service delivery. The services implemented through SAMHSA's Services Grants must incorporate the best objective information available from recognized experts regarding effectiveness and acceptability.

Treatment of Homeless is one of SAMHSA's Services Grants programs. The purpose of this funding opportunity is to enable communities to expand and strengthen their treatment services for homeless individuals with substance abuse disorders, mental illness, or with co-occurring substance abuse disorders and mental illness. “Homeless” persons are those who lack a fixed, regular, adequate nighttime residence, including persons whose primary nighttime residence is: a supervised public or private shelter designed to provide temporary living accommodations; a time-limited/nonpermanent transitional housing arrangement for individuals engaged in mental health and/or substance abuse treatment; or a public or private facility not designed for, or ordinarily used as, a regular sleeping accommodation. “Homeless” also includes “doubled-up”—a residential status that places individuals at imminent risk for becoming homeless—defined as sharing another person's dwelling on a temporary basis where continued tenancy is contingent upon the hospitality of the primary leaseholder or owner and can be rescinded at any time without notice.

Exceptions to the SVC-04 PA and Other Special Requirements: Applicants for Treatment for Homeless grants must address the following requirement(s) in the Project Narrative of their application:

• In Section C of the Project Narrative, applicants must comprehensively describe how treatment services are linked with housing programs and other services for homeless persons, e.g., primary health care.

• In Section C of the Project Narrative, applicants must describe how the proposed project will be coordinated with other existing SAMHSA-funded grant projects in the target area, if there are any. The application must clearly state that there are no existing SAMHSA-funded grant projects in the target area, if this is the case.

• All grantees are required to report on the following client outcomes for their grant-funded projects, and applicants must document their ability to collect and report on these client outcomes in Section E of the Project Narrative: participants reporting abstinence at discharge; participants improving employment/school attendance; participants having no criminal justice involvement; participants having stable living situations; and participants reporting (consumer/family) improvement in behavioral/emotional symptoms.

Estimated Funding Available/Number of Awards: It is expected that [$$] million will be available to fund [##] awards in FY [XXXX]. The awards will be up to [$$] in total costs (direct and indirect) per year. Applications with proposed budgets that exceed [$$] in any year will be returned without review.

Period of Support: Up to five years, with annual continuations depending on the availability of funds, grantee progress in meeting program goals and objectives, and timely submission of required data and reports.

Eligible Applicants: Eligibility is restricted by statute to community-based public and private non-profit entities. These include county governments, city or township governments, Native American tribal governments (Federally recognized), public housing authorities/Indian housing authorities, nonprofits other than institutions of higher education with 501(c)(3) IRS status, nonprofits other than institutions of higher education without 501(c)(3) IRS status, and private institutions of higher education. State-supported, non-governing, community-based entities such as colleges, universities, and hospitals whose State support is for education and/or treatment services are eligible if such services are provided only to the local community. States are not eligible to apply under this statute.

Additional information regarding eligibility (including experience, licensing, accreditation, and certification requirements), program requirements, and formatting requirements is provided in the SVC-04 PA. Applications that do not comply with these requirements will be screened out and will not be reviewed.

Is Cost Sharing or Matching Required: No.

How To Get Full Announcement and Application Materials: Complete application kits may be obtained from: the National Clearinghouse for Alcohol and Drug Information (NCADI) at 1-800-729-6686. When requesting an application kit, the applicant must specify the funding opportunity title and number for which detailed information is desired. All information necessary to apply, including where to submit applications and application deadline instructions, is included in the application kit. The PHS 5161-1 application form and the full text of the program announcement are also available electronically via SAMHSA's World Wide Web Home Page: http://www.samhsa.gov. (Click on ‘Grant Opportunities’.)

When submitting an application, be sure to type “TI 04-XX, Treatment for Homeless” in Item Number 10 on the face page of the application form.

Intergovernmental Review: Executive Order 12372, as implemented through Department of Health and Human Services (DHHS) regulation at 45 CFR part 100, sets up a system for State and local review of applications for Federal financial assistance. Instructions for complying with E.O. 12372 are provided in the SVC-04 PA.

Public Health System Impact Statement: The Public Health System Impact Statement (PHSIS) is intended to keep State and local health officials informed of proposed health services grant applications submitted by community-based, non-governmental organizations within their jurisdictions. State and local governments and Indian tribal government applicants are not subject to the Public Health System Reporting Requirements. Instructions for complying with the PHSIS are provided in the SVC-04 PA.

Application Review Information: In compliance with Sec. 506 of the Public Health Service Act, in making award decisions, SAMHSA will give preference to entities that provide integrated primary health, substance abuse, and mental health services to homeless individuals, and to entities that have experience in providing substance abuse and mental health services to homeless individuals. Additional information concerning evaluation criteria, the review and selection process, and award criteria is available in the SVC-04 PA.

Award Administration: Award information, including information about award notices, administrative requirements and reporting requirements is included in the SV-04 PA.

Contact for Additional Information: [NAME], [ADDRESS], [PHONE], [E-MAIL].

Dated: August 13, 2003.
Anna Marsh,
SAMHSA, Acting Executive Officer.

[FR Doc. 03-21120 Filed 8-20-03; 8:45 am]

BILLING CODE 4162-20-P